FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 20, 2021.

A. Federal Reserve Bank of Atlanta (Kathryn Haney, Assistant Vice President) 1000 Peachtree Street NE, Atlanta, Georgia 30309. Comments can also be sent electronically to Applications.Comments@atl.frb.org:

1. Eureka Homestead Employee Stock Ownership Plan, Metairie, Louisiana; to acquire additional voting shares of Eureka Homestead Bancorp, Inc., and thereby indirectly acquire voting shares of Eureka Homestead, both of Metairie, Louisiana.

B. Federal Reserve Bank of Dallas (Karen Smith, Director, Applications) 2200 North Pearl Street, Dallas, Texas 75201-2272:

1. Gus K. Eifler, Houston, Texas; to acquire voting shares of Central Bancshares, Inc., by becoming a trustee of both the Carolyn J. Young 2012 Trust and John H. Young 2020 Trust, and thereby indirectly acquire voting shares of Central Bank, all of Houston, Texas, and to become a member of the Young Family Control Group, a group acting in concert.

C. Federal Reserve Bank of Richmond (Adam M. Drimer, Assistant Vice President) 701 East Byrd Street, Richmond, Virginia 23219. Comments can also be sent electronically to Comments.applications@rich.frb.org:

1. Kenneth R. Lehman, Fort Lauderdale, Florida; to acquire voting shares of Affinity Bancshares, Inc., and thereby indirectly acquire voting shares of Affinity Bank, both of Covington, Georgia.

Board of Governors of the Federal Reserve System, April 29, 2021.
Michele Taylor Fennell,
Deputy Associate Secretary of the Board.

[FR Doc. 2021-09405 Filed 5-4-21; 8:45 am]

BILLING CODE P